DEPARTMENT OF TRANSPORTATION

Federal Motor Carrier Safety Administration

[Docket No. FMCSA-2013-0147]

Qualification of Drivers: Skill Performance Evaluation Program; Virginia Department of Motor Vehicles Application for Exemption Renewal; Correction

AGENCY: Federal Motor Carrier Safety Administration (FMCSA), Department of Transportation (DOT).

ACTION: Notice of provisional renewal of exemption; correction.

SUMMARY: FMCSA corrects its July 7, 2025, notice provisionally renewing an exemption for truck and bus drivers who are licensed in the Commonwealth of Virginia and need a Skill Performance Evaluation (SPE) Certificate to operate commercial motor vehicles (CMV) in interstate commerce. The expiration date for the provisional renewal was incorrectly published as July 8, 2030. The correct expiration date is January 8, 2026.

DATES: This correction is effective July 18, 2025.

FOR FURTHER INFORMATION CONTACT: Ms. Evangela Hollowell, Medical Programs Division, (202) 366-2551, FMCSAMedical@dot.gov. If you have questions on viewing or submitting material to the docket, contact Dockets Operations, (202) 366-9826.

SUPPLEMENTARY INFORMATION: On July 7, 2025, FMCSA published a notice announcing the provisional renewal of an exemption for truck and bus drivers who are licensed in the Commonwealth of Virginia and need a SPE Certificate to operate CMVs in interstate commerce (90 FR 29928). The exemption enables interstate CMV drivers who are licensed in Virginia and are subject to the Federal SPE certificate requirements to continue to fulfill the Federal requirements with a State-issued SPE certificate that qualifies such drivers to operate CMVs in interstate commerce. The notice incorrectly indicated that the expiration date of the provisional renewal is July 8, 2030. Through this notice, FMCSA corrects the expiration date.

In FR Doc. 2025-12550 appearing on page 29928 in the Federal Register of July 7, 2025, the following correction is made:

1. On page 29928, in the first column, under the dates section, “The provisional renewal of the exemption is effective from July 8, 2025, through July 8, 2030.” is corrected to read “The provisional renewal of the exemption is effective from July 8, 2025, through January 8, 2026.”

Issued under authority delegated in 49 CFR 1.87.
Larry W. Minor,
Associate Administrator for Policy.

[FR Doc. 2025-13560 Filed 7-17-25; 8:45 am]

BILLING CODE 4910-EX-P